DEPARTMENT OF THE INTERIOR

Bureau of Land Management

[NV-952-08-1420-BJ, 14X1109]

Filing of Plats of Survey; Nevada

AGENCY: Bureau of Land Management.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, NV 89520, 775-861-6541.

SUPPLEMENTARY INFORMATION:

1.The Plat of Survey of the following described lands was officially filed at the Nevada State Office, Reno, Nevada, on April 23, 2008:

The plat, in two sheets, representing the dependent resurvey of a portion of the subdivisional lines, the subdivision of section 21 and certain metes-and-bounds surveys in section 21, Township 19 South, Range 60 East, Mount Diablo Meridian, Nevada, under Group No. 839, was accepted April 22, 2008.

This survey was executed to meet certain administrative needs of the Bureau of Land Management.

2. The Supplemental Plats of Survey of the following described lands were officially filed at the Nevada State Office, Reno, Nevada, on June 11, 2008.

The supplemental plat, showing amended lottings in sec. 4, T. 13 N., R. 32 E., Mount Diablo Meridian, Nevada, was accepted June 9, 2008.

The supplemental plat, in four sheets, showing amended lottings in sec. 5, T. 13 N., R. 32 E., Mount Diablo Meridian, Nevada, was accepted June 9, 2008.

The supplemental plat, in two sheets, showing amended lottings in sec. 8, T. 13 N., R. 32 E., Mount Diablo Meridian, Nevada, was accepted June 9, 2008.

The supplemental plat, in two sheets, showing amended lottings in sec. 9, T. 13 N., R. 32 E., Mount Diablo Meridian, Nevada, was accepted June 9, 2008.

These supplemental plats were prepared to meet certain administrative needs of the Kennecott Rawhide Mining Company and the Bureau of Land Management.

3. The above-listed surveys are now the basic record for describing the lands for all authorized purposes. These surveys have been placed in the open files in the BLM Nevada State Office and are available to the public as a matter of information. Copies of the surveys and related field notes may be furnished to the public upon payment of the appropriate fees.

Dated: July 1, 2008.
David D. Morlan,
Chief Cadastral Surveyor, Nevada.

[FR Doc. E8-15912 Filed 7-11-08; 8:45 am]

BILLING CODE 4310-HC-P